INTERNATIONAL TRADE COMMISSION

[Investigation Nos. TA-131-043 and TPA-105-004]

U.S.-Japan Trade Agreement: Advice on the Probable Economic Effect of Providing Duty-Free Treatment for Currently Dutiable Imports

AGENCY: United States International Trade Commission.

ACTION: Change in date for transmittal of Commission report to the United States Trade Representative (USTR).

SUMMARY: The Commission has changed the date for transmittal of its report to the USTR in these investigations from January 24, 2018 to February 28, 2019 due to the lapse of appropriation between December 22, 2018 and January 25, 2019.

DATES: February 11, 2019.

FOR FURTHER INFORMATION CONTACT: Project Leader Justino De La Cruz (202-205-3252 or Justino.delacruz@ustic.gov) or Deputy Project Leader Saad Ahmad (202-205-3331 or saad.ahmad@usitc.gov) for information specific to these investigations. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: The Commission published notice of institution of the above referenced investigations in the Federal Register on November 9, 2018 (83 FR 56100, November 9, 2018). In that notice the Commission stated that it would transmit its report to the USTR by January 24, 2019. However, due to the lapse in appropriation (December 22, 2018 to January 25, 2019), the Commission will transmit its report to the USTR by February 28, 2019. All other dates pertaining to these investigations remain the same as in the notice published in the Federal Register on November 9, 2018.

By order of the Commission.
Issued: February 12, 2019.
Lisa Barton,
Secretary to the Commission.

[FR Doc. 2019-02600 Filed 2-15-19; 8:45 am]

BILLING CODE 7020-02-P